DEPARTMENT OF COMMERCE

National Oceanic and Atmospheric Administration

Proposed Information Collection; Comment Request; Economic Impacts of Marine Debris on Tourism-dependent Communities

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 24, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to Amy V. Uhrin, Chief Scientist, NOS Office of Response and Restoration, Marine Debris Division, N/ORR, SSMC4, Rm. 10240, 1305 East-West Highway, Silver Spring, MD 20910, (240)-533-0426, amy.uhrin@noaa.gov.

SUPPLEMENTARY INFORMATION:

I. Abstract

This request is for a new information collection.

The National Ocean Service, Office of Response and Restoration, Marine Debris Program is sponsoring this data collection. The Marine Debris Program was created under the 2006 “Marine Debris Research, Prevention, and Reduction Act” (33 U.S.C. 1951 et seq.) which was reauthorized in 2012 as the “Marine Debris Act Amendments of 2012” (H.R. 1171) as part of the Coast Guard Maritime Transportation Act (H.R. 2838). Among other activities, the bill requires NOAA “. . . to address the adverse impacts of marine debris on the United States economy . . .” To that aim, the proposed data collection will support the goals of a larger study whose purpose is to develop a regional economic model to estimate the value to local economies of increased spending on recreation and tourism from the reduction or elimination of marine debris on beaches in seven coastal communities of the continental U.S. The data collection will consist of on-site sampling to generate a pool of respondents who will be sent a mail survey that asks questions related to beach attributes, local beach familiarity, number of beach trips taken, and ratings of marine debris encountered while on these trips. Onsite sampling will involve intercepting people at several beaches in each study area and asking them to participate in a mail survey. For those willing to take the mail survey, a brief onsite interview will ask the respondent's name and mailing address, as well as several demographic questions such as age and education. Those who do not agree to participate in the mail survey will only be asked the demographic questions, whether they participated in a single or multi-day trip, and zip code. A mail-survey mode will be used for the follow-up questionnaire. The mail survey instrument will combine a selection of questions from a previously OMB-approved survey instrument used in Orange County, California with new contingent behavior questions developed specifically for this study to determine the impact of the presence of marine debris on respondents' recreation choices. This data collection will determine the impact of marine debris on survey respondents' recreation choices at these seven coastal communities and represents the first component to be undertaken as part of the larger study.

II. Method of Collection

People will be approached at several beaches in each study area and asked to participate in a mail survey.

III. Data

OMB Control Number: 0648-xxxx.

Form Number(s): None.

Type of Review: Regular (request for a new information collection).

Affected Public: Individuals or households.

Estimated Number of Respondents: 1600.

Estimated Time per Response: 2 minutes for site intercept, 10 minutes for mail survey.

Estimated Total Annual Burden Hours: 729 hours.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 16, 2017.
Sarah Brabson,
NOAA PRA Clearance Officer.

[FR Doc. 2017-03433 Filed 2-21-17; 8:45 am]

BILLING CODE 3510-JE-P